DEPARTMENT OF HEALTH AND HUMAN SERVICES

Centers for Disease Control and Prevention

[30Day-14-0890]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

HIV/AIDS Awareness Day Programs (0920-0890 exp. 06/30/2014)—Extension—National Center for HIV/AIDS, Viral Hepatitis, STD, and Tuberculosis Prevention (NCHHSTP), Centers for Disease Control and Prevention (CDC).

Background and Brief Description

CDC is requesting Office of Management and Budget (OMB) approval of a 3-year extension to administer surveys to respondents who plan HIV/AIDS day awareness activities during the next three years. The name and dates for the annual HIV/AIDS awareness day campaigns are: National Black HIV Awareness Day—February 7th; National Native HIV/AIDS Awareness Day—March 20th; National Asian and Pacific Islander HIV/AIDS Awareness Day—May 19th; and National Latino AIDS Awareness Day—October 15th.

The purpose of the surveys is to assess the number and types of HIV/AIDS prevention activities planned and implemented in observance of each of the four noted HIV/AIDS awareness day campaigns. This extension is required to continue the work of HIV/AIDS in among the African American, Native American, Latino, and Asian Pacific Islander populations. Each of the awareness days have reached a landmark year. This has been done through national outreach and mobilization efforts towards their targeted populations as well as awareness to the general population about HIV/AIDS issues that impact their communities.

The importance of each day has been demonstrated in reaching beyond traditional audience. This has been done by collaborating with agencies and organizations who serve the public health in areas affected by HIV/AIDS. A more proactive role has been shared between each of the planning committees and the communities they serve. Testing and linkage to care has been a staple for each of the days. Also, each of the groups has fully used online resources to provide information and network with individuals and groups to help with their perspective cause(s).

After the date that each campaign occurs, the event planners will be asked to respond to a computer-based survey to collect qualitative data. They will go to the designated Web sites to review information about the campaigns and go to the section that allows them to enter information about their particular event. For example, the event planners will be asked to note the kind of events that they planned. The survey results are necessary to understand how and where HIV/AIDS awareness activities are planned and implemented.

These survey results will provide important information that will be used to develop HIV/AIDS prevention activities. The computer-based surveys take up to one hour.

There are no costs to the respondents other than their time. The total estimated annual burden hours are 375.

Estimated Annualized Burden Hours
Respondents | Form name | Number of respondents | Responses per respondent | Average burden per response (In hours)
African-American HIV/AIDS awareness day activity planners | National Black HIV/AIDS Awareness Day Evaluation Report | 200 | 1 | 1
Asian and Pacific Islander HIV/AIDS awareness day activity planners | National Asian & Pacific Islander HIV/AIDS Awareness Day Evaluation Report | 15 | 1 | 1
Latino HIV/AIDS awareness day activity planners | National Latino AIDS Awareness Day Evaluation Report | 125 | 1 | 1
Native HIV/AIDS awareness day activity planners | National Native HIV/AIDS Awareness Day Evaluation Report | 35 | 1 | 1

LeRoy Richardson,
Chief, Information Collection Review Office, Office of Scientific Integrity, Office of the Associate Director for Science, Office of the Director, Centers for Disease Control and Prevention.

[FR Doc. 2014-06218 Filed 3-20-14; 8:45 am]

BILLING CODE 4163-18-P